NUCLEAR REGULATORY COMMISSION

[NRC-2024-0042]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by March 21, 2024. A request for a hearing or petitions for leave to intervene must be filed by April 22, 2024. This monthly notice includes all amendments issued, or proposed to be issued, from January 5, 2024, to February 1, 2024. The last monthly notice was published on January 23, 2024.

ADDRESSES: You may submit comments by any of the following methods; however, the NRC encourages electronic comment submission through the Federal rulemaking website:

• Federal rulemaking website: Go to https://www.regulations.gov and search for Docket ID NRC-2024-0042. Address questions about Docket IDs in Regulations.gov to Stacy Schumann; telephone: 301-415-0624; email: Stacy.Schumann@nrc.gov. For technical questions, contact the individual listed in the “For Further Information Contact” section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Karen Zeleznock, Office of Nuclear Reactor Regulation, U.S. Nuclear Regulatory Commission, Washington, DC 20555-0001, telephone: 301-415-1118; email: Karen.Zeleznock@nrc.gov.

SUPPLEMENTARY INFORMATION:

I. Obtaining Information and Submitting Comments

A. Obtaining Information

Please refer to Docket ID NRC-2024-0042, facility name, unit number(s), docket number(s), application date, and subject when contacting the NRC about the availability of information for this action. You may obtain publicly available information related to this action by any of the following methods:

• Federal Rulemaking Website: Go to https://www.regulations.gov and search for Docket ID NRC-2024-0042.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2024-0042, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as Social Security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Constellation Energy Generation, LLC; Peach Bottom Atomic Power Station, Unit 1; York County, PA
Docket No | 50-171.
Application date | September 22, 2023.
ADAMS Accession No | ML23265A150.
Location in Application of NSHC | Pages 7-9 of Attachment 1.
Brief Description of Amendment | The proposed amendment would modify License Condition 2.C(1) and Technical Specifications (TSs) Sections 1.0, 2.1(b)1, 2.1(b)6, 2.3(b)1, and 2.3(b)2 to remove restrictions that currently preclude certain decommissioning activities without prior NRC approval. The proposed changes would amend the applicable License Condition and TSs to eliminate legacy restrictions and adopt requirements that more closely align with the current standards and guidance that govern decommissioning activities/efforts as specified in 10 CFR 50.82.
Proposed Determination | NSHC.
Name of Attorney for Licensee, Mailing Address | Donald P. Ferraro, Assistant General Counsel, Constellation Energy Generation, LLC, 200 Exelon Way, Suite 305, Kennett Square, PA 19348.
NRC Project Manager, Telephone Number | Tanya Hood, 301-415-1387.
Constellation FitzPatrick, LLC and Constellation Energy Generation, LLC; James A. FitzPatrick Nuclear Power Plant; Oswego County, NY
Docket No | 50-333.
Application date | December 14, 2023.
ADAMS Accession No | ML23348A154.
Location in Application of NSHC | Pages 7-8 of Attachment 1.
Brief Description of Amendment(s) | The proposed amendment would modify Technical Specification (TS) requirements in Section 1.3 regarding Completion Times and Section 3.0 regarding Limiting Condition for Operation and Surveillance Requirement usage. These changes are consistent with the NRC-approved Technical Specification Task Force (TSTF) Traveler TSTF-529, Revision 4, “Clarify Use and Application Rules.” Additionally, the proposed amendment makes several administrative changes to the TS.
Proposed Determination | NSHC.
Name of Attorney for Licensee, Mailing Address | Jason Zorn, Associate General Counsel, Constellation Energy Generation, 101 Constitution Ave. NW, Suite 400 East, Washington, DC 20001.
NRC Project Manager, Telephone Number | James Kim, 301-415-4125.
Energy Northwest; Columbia Generating Station; Benton County, WA
Docket No | 50-397.
Application date | December 5, 2023.
ADAMS Accession No | ML23339A124.
Location in Application of NSHC | Pages 2-3 of the Enclosure.
Brief Description of Amendment | The proposed amendment would modify Technical Specification (TS) 3.3.6.1, “Primary Containment Isolation Instrumentation,” to remove the requirement that the Reactor Water Cleanup (RWCU) System automatically isolate on manual initiation of the Standby Liquid Control (SLC) System. This change to the TS facilitates a future change to the plant design and procedures to require manually isolating the RWCU System when manually initiating the SLC System. The proposed change is consistent with NRC-approved Technical Specification Task Force (TSTF) Traveler TSTF-584, Revision 0, “Eliminate Automatic RWCU System Isolation on SLC Initiation.”
Proposed Determination | NSHC.
Name of Attorney for Licensee, Mailing Address | Ryan Lukson, Assistant General Counsel, Energy Northwest, MD 1020, P.O. Box 968, Richland, WA 99352.
NRC Project Manager, Telephone Number | Mahesh Chawla, 301-415-8371.
Florida Power & Light Company; Turkey Point Nuclear Generating Units 3 and 4; Miami-Dade County, FL
Docket Nos | 50-250, 50-251.
Application date | November 15, 2023.
ADAMS Accession No | ML23320A028.
Location in Application of NSHC | Page 42-46 of Enclosure 1.
Brief Description of Amendments | The proposed amendments would revise the Turkey Point Nuclear Generating Units 3 and 4 licensing basis by incorporating advanced fuel features (e.g., AXIOM® cladding, ADOPT™ fuel pellets, and a PRIME™ fuel skeleton), extend Technical Specification (TS) surveillance intervals, modify TS Allowable Values, and make conforming changes to the Updated Final Safety Analysis Report to facilitate a transition to 24-month fuel cycles.
Proposed Determination | NSHC.
Name of Attorney for Licensee, Mailing Address | Steven Hamrick, Senior Attorney 801 Pennsylvania Ave. NW, Suite 220 Washington, DC 20004.
NRC Project Manager, Telephone Number | Michael Mahoney, 301-415-3867.
Southern Nuclear Operating Company, Inc.; Edwin I. Hatch Nuclear Plant, Units 1 and 2; Appling County, GA
Docket Nos | 50-321, 50-366.
Application date | August 19, 2022, as supplemented by letters dated January 20, 2023; October 20, 2023; January 30, 2024.
ADAMS Accession Nos | ML22231B055, ML23020A902, ML23293A235, ML24030A895.
Location in Application of NSHC | Pages E1-11 to E1-12 of Attachment 3 in supplement dated January 30, 2024.
Brief Description of Amendments | The proposed amendments would revise the renewed facility operating licenses and Technical Specifications Table 1.1-1, “MODES,” to relax the required number of fully tensioned reactor pressure vessel closure studs.
Proposed Determination | NSHC.
Name of Attorney for Licensee, Mailing Address | Millicent Ronnlund, Vice President and General Counsel, Southern Nuclear Operating Co., Inc., P.O. Box 1295, Birmingham, AL 35201-1295.
NRC Project Manager, Telephone Number | Andrea Johnson 301-415-2890.
Southern Nuclear Operating Company, Inc.; Edwin I. Hatch Nuclear Plant, Units 1 and 2; Appling County, GA
Docket Nos | 50-321, 50-366.
Application date | December 6, 2023.
ADAMS Accession No | ML23340A223.
Location in Application of NSHC | Pages A1-4 to A1-5 of Attachment 1.
Brief Description of Amendments | The proposed amendments would modify the Edwin I. Hatch Nuclear Plant, Units 1 and 2, Technical Specification (TS) requirements related to Completion Times (CTs) for Required Actions to provide the option to calculate a longer, risk-informed CT for the condition of one pump inoperable for TS 3.7.1, “Residual Heat Removal Service Water (RHRSW) System,” and for TS 3.7.2, “Plant Service Water (PSW) System and Ultimate Heat Sink (UHS).” The proposed amendments would also make corresponding changes to TS 5.5.16, “Risk Informed Completion Time Program,” and to TS 1.3, “Completion Times,” Example 1.3-8.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Tennessee Valley Authority; Watts Bar Nuclear Plant, Unit 1; Rhea County, TN
Docket No | 50-390.
Application date | January 8, 2024.
ADAMS Accession No | ML24009A165.
Location in Application of NSHC | Pages E6 and E7 of the Enclosure.
Brief Description of Amendment | The proposed amendment would revise Watts Bar Nuclear Plant, Unit 1, Technical Specification 3.8.2, “AC Sources-Shutdown,” Limiting Condition for Operation to remove the note regarding the C-S diesel generator.
Proposed Determination | NSHC.
Name of Attorney for Licensee, Mailing Address | David Fountain, Executive VP and General Counsel, Tennessee Valley Authority, 6A West Tower, 400 West Summit Hill Drive, Knoxville, TN 37902.
NRC Project Manager, Telephone Number | Kimberly Green, 301-415-1627.
Tennessee Valley Authority; Watts Bar Nuclear Plant, Units 1 and 2; Rhea County, TN
Docket Nos | 50-390, 50-391.
Application date | December 13, 2023.
ADAMS Accession No | ML23347A161.
Location in Application of NSHC | TSTF-5: pages E-5 and E-6; TSTF-9: pages E-9 and E-10; TSTF-12: pages E-12 and E-13; TSTF-13: pages E-15 and E-16; TSTF-14: pages E-18 and E-19; TSTF-109: pages E-21 and E-22; TSTF-110: pages E-25 and E-26; TSTF-135: pages E-30 and E-31; TSTF-136: pages E-33 and E-34; TSTF-142: pages E-36 and E-37; TSTF-241: pages E-41 and E-42; TSTF-256: pages E-44 and E-45; TSTF-339: pages E-47 and E-48.
Brief Description of Amendments | The proposed amendments would revise various technical specifications (TS) in Watts Bar Nuclear Plant, Units 1 and 2 TS 2.0, 3.0, 3.1, 3.2, 3.3, 3.4, and 5.9.5 by adopting the following Technical Specifications Task Force (TSTF) Travelers: TSTF-5-A, Revision 1, “Delete Safety Limit Violation Notification Requirements,” TSTF-9-A, Revision 1, “Relocate Value for Shutdown Margin to COLR [core operating limit report],” TSTF-12-A, Revision 1, “Delete LCO [limiting condition for operation] 3.1.9 and 3.1.11 (Physics Tests Exceptions),” TSTF-13-A, Revision 1, “Move SR [surveillance requirement] For 300 ppm MTC [moderator temperature coefficient] Measurement to Frequency Note of SR 3.1.4.3,” TSTF-14-A, Revision 4, “Add an LCO Item and SR to Mode 2 Physics Tests Exceptions To Verify That Thermal Power <= 5% RTP [rated thermal power],” TSTF-109-A, “Clarify the QPTR [quadrant power tilt ratio] Surveillances,” TSTF-110-A, Revision 2, “Delete SR Frequencies Based on Inoperable Alarms,” TSTF-135-A, Revision 3, “RPS [reactor protection system] and ESFAS [engineered safety features actuation signals] Instrumentation,” TSTF-136-A, “Combine LCO 3.1.1 and 3.1.2,” TSTF-142-A, “Increase the Completion Time When the Core Reactivity Balance is Not Within Limit,” TSTF-241-A, Revision 4, “Allow Time for Stabilization After Reducing Power Due to QPTR Out-of-Limit,” TSTF-256-A, “Modify MODE 2 STE [special test exemption] Applicability,” and TSTF-339-A, Revision 2, “Relocate TS Parameters to COLR.” The amendments would also delete one-time historical information from TS Surveillance Requirements 3.1.3.1 and 3.1.4.1, and make editorial changes for items that are not consistent with Standard Technical Specifications.
Proposed Determination | NSHC.
Name of Attorney for Licensee, Mailing Address | David Fountain, Executive VP and General Counsel, Tennessee Valley Authority, 6A West Tower, 400 West Summit Hill Drive, Knoxville, TN 37902.
NRC Project Manager, Telephone Number | Tony Sierra, 301-287-9531.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuances
Dominion Energy Nuclear Connecticut, Inc.; Millstone Power Station, Unit No. 3; New London County, CT
Docket No | 50-423.
Amendment Date | January 12, 2024.
ADAMS Accession No | ML23341A017.
Amendment No | 288.
Brief Description of Amendment | The amendment revised the Millstone Power Station, Unit No. 3 Technical Specification 3.4.9.1, “Reactor Coolant System Pressure/Temperature Limits,” to reflect that the existing pressure-temperature limit curves for 32 effective full power years (EFPY) in Figures 3.4-2 and 3.4-3 of TS 3.4.9.1 are applicable up to 54 EFPY.
Public Comments Received as to Proposed NSHC (Yes/No) | No.
Entergy Operations, Inc.; Arkansas Nuclear One, Unit 1; Pope County, AR
Docket No | 50-313.
Amendment Date | January 24, 2024.
ADAMS Accession No | ML23326A039.
Amendment No | 281.
Brief Description of Amendment | The amendment revised the technical specifications to permit the use of risk-informed completion times for actions to be taken when limiting conditions for operation are not met. The changes are based on Technical Specifications Task Force (TSTF) Traveler TSTF-505, Revision 2, “Provide Risk-informed Extended Completion Times—RITSTF [Risk-Informed TSTF] Initiative 4b,” dated July 2, 2018 (ML18183A493).
Public Comments Received as to Proposed NSHC (Yes/No) | No.
Florida Power & Light Company; Turkey Point Nuclear Generating Unit Nos. 3 and 4; Miami-Dade County, FL
Docket No | 50-250, 50-251.
Amendment Date | January 22, 2024.
ADAMS Accession No | ML23320A306.
Amendment Nos | 298 (Unit 3), 291 (Unit 4).
Brief Description of Amendments | The amendments revised the Fire Protection Program in support of reactor coolant pump (RCP) seal replacements. The amendments were requested in accordance with the units' operating licenses, paragraph 3.D, “Fire Protection,” for Fire Protection Program changes that may be made without prior NRC approval. One of the criteria for such a change is that the risk increase resulting from the change is less than 1 × 10-7/year (yr) for core damage frequency and less than 1 × 10-8/yr for large early release frequency. The change is to support replacement of the currently installed RCP seals with the Framatome RCP hydrostatic seal package equipped with the passive shutdown seal.
Public Comments Received as to Proposed NSHC (Yes/No) | No.
NextEra Energy Point Beach, LLC; Point Beach Nuclear Plant, Units 1 and 2; Manitowoc County, WI
Docket Nos | 50-266, 50-301.
Amendment Date | January 23, 2024.
ADAMS Accession No | ML23352A275.
Amendment Nos | 274 (Unit 1), 276 (Unit 2).
Brief Description of Amendments | The amendments revised Technical Specification (TS) 5.5.17, “Pre-Stressed Concrete Containment Tendon Surveillance Program,” to replace the reference to Regulatory Guide 1.35, “Inservice Inspection of Ungrouted Tendons in Prestressed Concrete Containments,” with a reference to Section XI, Subsection IWL of the American Society of Mechanical Engineers Boiler and Pressure Vessel Code. Additionally, the provisions of Surveillance Requirement 3.0.2 in TS 5.5.17 were also deleted by the license amendment.
Public Comments Received as to Proposed NSHC (Yes/No) | No.
Northern States Power Company—Minnesota; Prairie Island Nuclear Generating Plant, Units 1 and 2; Goodhue County, MN
Docket Nos | 50-282, 50-306.
Amendment Date | January 17, 2024.
ADAMS Accession No | ML23356A003.
Amendment Nos | 243 (Unit 1), 231 (Unit 2).
Brief Description of Amendments | The amendments revised Technical Specification 5.6.6, “Reactor Coolant System (RCS) Pressure and Temperature Limits Report (PTLR),” to replace the current PTLR method with more recent analytical methods and remove a reference to an American Society of Mechanical Engineers Code Case.
Public Comments Received as to Proposed NSHC (Yes/No) | No.
PSEG Nuclear LLC; Hope Creek Generating Station; Salem County, NJ
Docket No | 50-354.
Amendment Date | January 16, 2024.
ADAMS Accession No | ML23341A137.
Amendment No | 235.
Brief Description of Amendment | The amendment modified the operation of safety-related heating, ventilation, and air conditioning (HVAC) trains as described in the updated final safety analysis report for Hope Creek. The change modified a portion of the trip and standby start logic for the safety-related HVAC trains from an automatic function to a manual operator action.
Public Comments Received as to Proposed NSHC (Yes/No) | No.
Southern Nuclear Operating Company, Inc.; Vogtle Electric Generating Plant, Unit 4; Burke County, GA
Docket No | 52-026.
Amendment Date | January 17, 2024.
ADAMS Accession No | ML23279A004.
Amendment No | 194.
Brief Description of Amendment | The amendment removed Appendix C, “Inspections, Tests, Analyses, and Acceptance Criteria” (ITAAC) in its entirety from the Combined Operating License (COL) along with specific references to Appendix C within license conditions contained in the COL. In addition, the amendment deleted license conditions 2.D(2)(d) and 2.D(3)(b) that reference Appendix C. The staff made its 10 CFR 52.103(g) finding for Vogtle Unit 4 on July 28, 2023. The regulations in 10 CFR 52.103(h) and 10 CFR part 52, appendix D, IX.B.3 state that ITAAC are no longer requirements following the 10 CFR 52.103(g) finding. No ITAAC listed in Appendix C to COL NPF-92 are the subject of a § 52.103(a) hearing. Thus, all Vogtle Unit 4 ITAAC expired upon the making of the 10 CFR 52.103(g) finding.
Public Comments Received as to Proposed NSHC (Yes/No) | No.
Tennessee Valley Authority; Browns Ferry Nuclear Plant, Units 1, 2, and 3; Limestone County, AL
Docket Nos | 50-259, 50-260, 50-296.
Amendment Date | January 3, 2024.
ADAMS Accession No | ML23319A199.
Amendment Nos | 333 (Unit 1), 356 (Unit 2), 316 (Unit 3).
Brief Description of Amendments | The amendments revised Browns Ferry Nuclear Plant, Units 1, 2, and 3 Technical Specification Surveillance Requirements 3.4.3.2 and 3.5.1.11 by supplementing the current requirement to verify the safety relief valves and automatic depressurization valves, respectively, open when manually actuated with an alternate requirement that demonstrates the valves are capable of being opened in accordance with the inservice testing program (IST) and revising the frequency to conform with the IST.
Public Comments Received as to Proposed NSHC (Yes/No) | No.
Tennessee Valley Authority; Sequoyah Nuclear Plant, Units 1 and 2; Hamilton County, TN; Tennessee Valley Authority; Watts Bar Nuclear Plant, Units 1 and 2; Rhea County, TN
Docket Nos | 50-327, 50-328, 50-390, 50-391.
Amendment Date | January 31, 2024.
ADAMS Accession No | ML23319A245.
Amendment Nos | Sequoyah 366 (Unit 1), 360 (Unit 2); Watts Bar 164 (Unit 1), 71 (Unit 2).
Brief Description of Amendments | The amendments revised Sequoyah Nuclear Plant, Units 1 and 2, and the Watts Bar Nuclear Plant, Units 1 and 2 technical specifications (TSs) to adopt Technical Specifications Task Force (TSTF) Traveler TSTF-567-A, Revision 1, “Add Containment Sump TS to Address GSI [Generic Safety Issue]—191 Issues,” by adding a new TS 3.6.16, “Containment Sump,” and adding an Action to address the condition of the containment sump made inoperable due to containment accident generated and transported debris exceeding the analyzed limits. The action provided time to correct or evaluate the condition in lieu of an immediate plant shutdown.
Public Comments Received as to Proposed NSHC (Yes/No) | No.
Union Electric Company; Callaway Plant, Unit No. 1; Callaway County, MO
Docket No | 50-483.
Amendment Date | January 18, 2024.
ADAMS Accession No | ML23353A171.
Amendment No | 237.
Brief Description of Amendment | The amendment revised the Callaway Plant Licensing Basis (i.e., the final safety analysis report and technical specifications (TSs)), to allow use of one train of the normal, non-safety-related service water system to solely provide cooling water support for one of two redundant trains of TS-required equipment when both equipment trains are required to be operable during cold shutdown/refueling conditions. The supported equipment/systems affected by the proposed change are the residual heat removal system and control room air conditioning system, as applicable during Modes 5 and 6. The applicable/affected TS limiting conditions for operation are TS 3.4.8, “RCS [Reactor Coolant System] Loops—Mode 5, Loops Not Filled”; TS 3.7.11, “Control Room Air Conditioning System (CRACS)”; and TS 3.9.6, “Residual Heat Removal (RHR) and Coolant Circulation—Low Water Level.”
Public Comments Received as to Proposed NSHC (Yes/No) | No.
Union Electric Company; Callaway Plant, Unit No. 1; Callaway County, MO
Docket No | 50-483.
Amendment Date | January 11, 2024.
ADAMS Accession No | ML23347A121.
Amendment No | 236.
Brief Description of Amendment | The amendment revised Technical Specification (TS) 3.8.3, “Diesel Fuel Oil, Lube Oil, and Starting Air,” Surveillance Requirement (SR) 3.8.3.1 (verification of fuel oil storage tank volume), and SR 3.8.3.2 (verification of lube oil inventory volume), by removing the current stored diesel fuel oil and lube oil numerical volume requirements and replacing them with duration-based diesel operating time requirements, consistent with Technical Specifications Task Force (TSTF) Traveler TSTF-501, Revision 1, “Relocate Stored Fuel Oil and Lube Oil Volume Values to Licensee Control,” dated February 20, 2009 (ML090510686).
Public Comments Received as to Proposed NSHC (Yes/No) | No.
Virginia Electric and Power Company; Surry Power Station, Units 1 and 2; Surry County, VA
Docket Nos | 50-280, 50-281.
Amendment Date | January 18, 2024.
ADAMS Accession No | ML23312A192.
Amendment Nos | 316 (Unit 1), 316 (Unit 2).
Brief Description of Amendments | The amendments applied a risk-informed approach to demonstrate the fuel handling trolley support structure, as designed, meets the intent of a tornado resistant structure under Surry Power Station's current licensing basis considering a maximum tornado wind speed.
Public Comments Received as to Proposed NSHC (Yes/No) | No.

IV. Previously Published Notice of Consideration of Issuance of Amendments to Facility Operating Licenses and Combined Licenses, Proposed No Significant Hazards Consideration Determination, and Opportunity for a Hearing

The following notice was previously published as separate individual notice. It was published as an individual notice either because time did not allow the Commission to wait for this monthly notice or because the action involved exigent circumstances. It is repeated here because the monthly notice lists all amendments issued or proposed to be issued involving NSHC.

For details, including the applicable notice period, see the individual notice in the Federal Register on the day and page cited.

License Amendment Request—Repeat of Individual Federal Register Notice
Wolf Creek Nuclear Operating Corporation; Wolf Creek Generating Station, Unit 1; Coffey County, KS
Docket No | 50-482.
Application Date | January 18, 2024.
ADAMS Accession No | ML24018A248.
Brief Description of Amendment | The proposed amendment would modify the implementation date of License Amendment No. 238 for Wolf Creek Generating Station, Unit 1.
Date & Cite of Federal Register Individual Notice | Published January 26, 2024; 89 FR 5267.
Expiration Dates for Public Comments & Hearing Requests | February 26, 2024 (Public Comments); March 26, 2024 (Hearing Requests).

Dated: February 12, 2024.
For the Nuclear Regulatory Commission.
Bo M. Pham,
Director, Division of Operating Reactor Licensing, Office of Nuclear Reactor Regulation.

[FR Doc. 2024-03243 Filed 2-16-24; 8:45 am]

BILLING CODE 7590-01-P